DEPARTMENT OF AGRICULTURE

Forest Service

National Urban and Community Forestry Advisory Council

AGENCY: Forest Service, USDA.

ACTION: Call for nominations.

SUMMARY: The United States Department of Agriculture (USDA) is seeking nominations for the National Urban and Community Forestry Advisory Council (Council) pursuant to Section 9 of the Cooperative Forestry Assistance Act, as amended by Title XII, Section 1219 of Public Law 101-624 (the Act) (16 U.S.C. 2105g) and the Federal Advisory Committee Act (FACA) (5 U.S.C. App. II). Additional information on the Council can be found by visiting the Council's Web site at: http://www.fs.fed.us/ucf/nucfac.shtml.

DATES: Written nominations must be received by March 11, 2016. Nominations must contain a completed application packet that includes the nominee's name, resume, cover letter, and completed Form AD-755 (Advisory Committee or Research and Promotion Background Information). The package must be sent to the address below.

ADDRESSES: Nancy Stremple, USDA Forest Service, Office of Cooperative Forestry, Sidney Yates Federal Building, 201 14th Street SW., Mail Stop 1123, Washington DC 20024, or by email at nstremple@fs.fed.us.

FOR FURTHER INFORMATION CONTACT: Nancy Stremple, Executive Staff to the National Urban and Community Forestry Advisory Council, Sidney Yates Federal Building, 201 14th Street SW., Mail Stop 1123, Washington, DC 20024, or by phone at (202) 205-0929 or by email at nstremple@fs.fed.us.

Individuals who use telecommunication devices for the deaf (TDD) may call the Federal Information Relay Service (FIRS) at 1-800-877-8339 between 8:00 a.m. and 8:00 p.m., Eastern Time, Monday through Friday.

SUPPLEMENTARY INFORMATION:

Background

In accordance with the provisions of FACA, the Secretary of Agriculture is seeking nominations to fill four positions that will occur when current appointments expire in December 2015. The purpose of the Council is to continue: (a) Developing a National Urban and Community Forestry Action Plan; (b) evaluating the implementation of that plan; and (c) developing criteria for, and submitting recommendations with respect to the National Urban and Community Forestry Challenge Cost-Share Grant Program.

The Council was created to draw representative members from all levels of government, citizen action groups, industry and trade associations, educational institutions, and national non-profit organizations to advise the Secretary.

Vacancy

Members appointed to the Council will be fairly balanced in terms of the points of view represented, functions to be performed, and will represent a broad array of expertise, leadership and relevancy to a membership position. Geographic balance and a balanced distribution among the positions are also important. Representatives from the following positions will be appointed by the Secretary for a term of 3 years:

(1) One of two members representing a national non-profit forestry and/or conservation citizen organization;

(2) A member representing city or town government;

(3) A member representing academic institutions with an expertise in urban and community forestry activities (first of two); and

(4) A member representing populations less than 50,000 who have experience and are active in urban and community forestry. They may not be officers or employees of any government body.

Vacancies will be filled in the manner in which the original appointment was made.

Nominations and Application Instructions

The appointment of members to the Council will be made by the Secretary of Agriculture from a list of qualified applicants. The public is invited to submit nominations for membership on the Council, either as a self-nomination or a nomination of any qualified and interested person. Any individual or organization may nominate one or more qualified persons to represent the above vacancies on the Council. To be considered for membership, nominees must provide the following:

1. Resume describing qualifications for membership to the Council;

2. Cover letter with a rationale for serving on the Council and what you can contribute; and

3. Complete Form AD-755, Advisory Committee Membership Background Information. The Form AD-755 may be obtained from the Forest Service point of contact or from the Council's Web site.

Letters of recommendation are welcome. All nominations will be vetted by USDA. Applicants are strongly encouraged to submit nominations via overnight mail or delivery to ensure timely receipt by the USDA. Members of the Council will serve without compensation, but may be reimbursed for travel expenses while performing duties on behalf of the Council, subject to approval by the Designated Federal Officer. Equal opportunity practices in accordance with USDA policies shall be followed in all appointments to the Council. To ensure that the recommendations of the Council have taken into account the needs of the diverse groups served by USDA, membership will, to the extent practicable, include individuals with demonstrated ability to represent all racial and ethnic groups, women and men, and persons with disabilities.

Dated: January 29, 2016.
Gregory L. Parham,
Assistant Secretary for Administration.

[FR Doc. 2016-02623 Filed 2-9-16; 8:45 am]

BILLING CODE 3411-15-P